DEPARTMENT OF COMMERCE

National Oceanic and Atmospheric Administration

[RTID 0648-XF105]

West Coast Take Reduction Team

AGENCY: National Marine Fisheries Service (NMFS), National Oceanic and Atmospheric Administration (NOAA), Department of Commerce.

ACTION: Notice of establishment of the West Coast Take Reduction Team and meeting; request for comment.

SUMMARY: NMFS is establishing a Take Reduction Team (TRT or Team) and convening a meeting to address the incidental mortality and serious injury of the Central America/Southern Mexico—CA/OR/WA (CAM) stock and Mainland Mexico—CA/OR/WA (MM) stock of humpback whales in the WA/OR/CA sablefish pot fishery. The TRT will develop a Take Reduction Plan (TRP or Plan) as required by the Marine Mammal Protection Act (MMPA). The TRT is charged with developing consensus recommendations to reduce incidental mortality and serious injury of these stocks in this fishery to levels approaching a zero mortality and serious injury rate for each stock within 5 years of implementation of the plan pursuant to the MMPA.

DATES: The initial meeting will be held on November 20, 2025 from 2:00 to 5:00 p.m. PST. Additionally, NMFS will work with the TRT once the current government furlough has ended to schedule an in-person meeting as soon as possible.

ADDRESSES: The first meeting of the West Coast TRT will be held virtually. A link to the meeting will be provided on the West Coast TRT website: https://www.fisheries.noaa.gov/west-coast/marine-mammal-protection/west-coast-take-reduction-team.

FOR FURTHER INFORMATION CONTACT: Lauren Saez, NMFS, West Coast Region, (562) 400-9371, lauren.saez@noaa.gov; or Kristy Long, NMFS, Office of Protected Resources, (206) 526-4792, kristy.long@noaa.gov.

SUPPLEMENTARY INFORMATION: Section 118(f)(1) of the MMPA requires NMFS to develop and implement take reduction plans designed to assist in the recovery or prevent the depletion of each strategic stock that interacts with Category I and II fisheries.

The MMPA defines a strategic stock as a marine mammal stock: (1) for which the level of direct human-caused mortality exceeds the Potential Biological Removal (PBR) level; (2) which is declining and is likely to be listed under the Endangered Species Act (ESA) in the foreseeable future; or (3) which is listed as threatened or endangered under the ESA or as a depleted species under the MMPA (16 U.S.C. 1362(2)). PBR is the maximum number of animals, not including natural mortalities, that may be removed from a marine mammal stock while allowing that stock to reach or maintain its optimum sustainable population. Category I or II fisheries are fisheries that, respectively, have frequent or occasional incidental mortality and serious injury of marine mammals (16 U.S.C. 1387(c)(1)). Category I fishery means a commercial fishery that frequently causes mortality or serious injury (M/SI) of marine mammals is one that is by itself responsible for the annual removal of 50 percent or more of any stock's PBR level (50 CFR 229.2). Category II fishery means a commercial fishery that occasionally causes M/SI of marine mammals is one that, collectively with other fisheries, is responsible for the annual removal of more than 10 percent of any marine mammal stock's PBR level and that is by itself responsible for the annual removal of between 1 and 50 percent, exclusive, of any stock's PBR level (50 CFR 229.2).

As required under section 118(f)(8) of the MMPA, the TRT shall develop a draft TRP by consensus, and shall submit this draft TRP to NMFS no later than 6 months after the date of the establishment of the TRT.

NMFS published a notice on September 29, 2023 (88 FR 67254) seeking public comment on whether other Category I or II fisheries, beyond the WA/OR/CA sablefish pot fishery, that incidentally kill or seriously injure the CAM and MM stocks of humpback whales, should be addressed by the Team. That notice also sought additional information relevant to establishing this Team, including information about the factors associated with risks of humpback whale or other large whale entanglements in U.S. commercial fisheries in the Pacific Ocean, such as available scientific or commercial data about the conduct of these fisheries, along with biological and ecological influences, and any other factors that affect the nature of interactions between large whales and U.S. commercial fishing gear. Finally, the agency sought to identify interested stakeholders who may wish to serve as TRT members. NMFS considered this information in its determination of the scope of marine mammals and commercial fisheries to include in the West Coast Take Reduction Team.

Marine Mammal Stocks Included Within the TRT Scope

Two humpback whale stocks identified in the U.S. Pacific Marine Mammal Stock Assessment Reports (SAR) (Carretta et al., 2024) are included within the scope of the TRT.

(1) Humpback whale, Central America/Southern Mexico—CA/OR/WA (CAM) stock. Whales in this stock winter off the Pacific coast of Nicaragua, Honduras, El Salvador, Guatemala, Panama, Costa Rica and likely southern coastal Mexico (Taylor et al., 2021). Summer destinations include the U.S. West Coast waters of California, Oregon, and Washington (including the Salish Sea, Calambokidis et al., 2020). This stock has been designated as strategic because the annual human-caused M/SI (14.9 animals per year) exceeds the stock's PBR level (3.5 animals per year) and because it is listed as endangered under the ESA (Carretta et al., 2024).

(2) Humpback whale, Mainland Mexico—CA/OR/WA (MM) stock. Whales in this stock winter off the mainland Mexico states of Nayarit and Jalisco, with some animals seen as far south as Colima and Michoacán. Summer destinations include U.S. West Coast waters of California, Oregon, Washington (including the Salish Sea, Martien et al., 2021). The stock is designated as strategic because it is listed as threatened under the ESA. Annual human-caused M/SI (22 animals/year) is 51.2 percent of the stock's PBR level (43 animals per year) (Carretta et al., 2024).

The geographic ranges of these two humpback whale stocks overlap, and the SAR proportions M/SI according to the relative abundance of these stocks by latitude (Curtis et al., 2025). For example, in Central California (34.45° N to 38.769° N) the proration values associated with an individual M/SI are: CAM 0.4272, MM 0.5581, Hawaii 0.0076 and Mexico-North Pacific 0.0071.

Marine Mammal Stocks Not Included Within the TRT Scope

NMFS considered additional marine mammal stocks but determined not to include the following within the scope of the TRT:

(1) Humpback whale, Hawai 'i stock. Whales in the Hawai'i stock winter off Hawai'i and largely summer in Southeast Alaska and Northern British Columbia (Wade et al., 2021). There are a small number of whales from this population that migrate between Hawai'i and southern British Columbia/Washington (Wade et al., 2021). Humpback whales that winter in Hawai'i are not listed under the ESA. The minimum estimate of the mean annual U.S. commercial fishery-related M/SI for this stock (8.39 whales) is less than 10 percent of PBR (127) for the entire stock (10 percent of PBR = 12.7) and, therefore, is considered insignificant and approaching a zero M/SI rate. NMFS is not including this stock in the scope of the TRT because all fishery-related M/SI is insignificant.

(2) Humpback whale, Mexico-North Pacific stock. Whales in the Mexico-North Pacific stock winter off Mexico at the Revillagigedo Archipelago and summer off Alaska and northern British Columbia (Wade et al., 2021). The PBR for this stock is unknown. The Mexico-North Pacific stock of humpback whales is listed as threatened under the ESA (Bettridge et al., 2015, Martien et al., 2021) and is considered strategic under the MMPA. NMFS is not including this stock in the scope of the TRT because the whales are not present off the U.S. West Coast and therefore unlikely to be killed/seriously injured incidental to the WA/OR/CA sablefish pot fishery.

(3) Blue whale, Eastern North Pacific stock. Blue whales in the Eastern North Pacific stock may range as far west as Wake Island and as far south as the Equator (Stafford et al., 1999, 2001). The U.S. West Coast is an important feeding area in summer and fall, but, increasingly, blue whales from the Eastern North Pacific stock are found feeding in a wider range north and south of this area in summer and fall. Commercial fishery-related M/SI (0.6 animals per year) does not exceed this stock's PBR (4.1 animals per year), and the stock is designated as strategic because it is listed as threatened under the ESA (Carretta et al., 2024). NMFS is not including this stock in the scope of the TRT because there has never been a documented entanglement of blue whales incidental to the WA/OR/CA sablefish pot fishery.

(4) Fin whale, CA/OR/WA stock. Fin whales are found from temperate to subpolar oceans worldwide, with a distributional hiatus between the Northern and Southern Hemispheres within 20° to 30° of the equator (Edwards et al., 2015). Fin whales occur throughout the North Pacific, from the northeastern Chukchi Sea (Crance et al., 2015) to the Tropic of Cancer (Mizroch et al., 2009), but their wintering areas are poorly known. The CA/OR/WA stock of fin whales is considered a strategic stock because it is listed as endangered under ESA. The fishery-related M/SI (0.41/yr, including identified and prorated fin whales) is less than 10 percent of the stock's PBR level (80) and, therefore, is considered insignificant and approaching a zero M/SI rate. NMFS is not including this stock in the scope of the TRT because fishery-related M/SI is insignificant.

(5) Other marine mammal stocks in the West Coast Region. All other marine mammal stocks in the West Coast Region that could be killed/seriously injured incidental to the WA/OR/CA sablefish pot fishery are already at or below the insignificance threshold, which has been defined in MMPA implementing regulations as 10 percent of PBR (50 CFR 229.2), and will not be included in the scope of the TRT.

Commercial Fisheries Included Within the TRT Scope

The TRT will address the following fishery:

(1) WA/OR/CA sablefish pot fishery. This Category II fishery operates along the west coast of the continental U.S. from southern CA to the Canadian border at depths ranging from 75-375 fathoms (137-685 meters). This Category II fishery incidentally kills/seriously injures two strategic stocks, triggering development of a Take Reduction Plan per MMPA sec. 118(f)(1). The mean annual M/SI of the CAM stock of humpback whales is 0.661 animals per year or 18.8 percent of the stock's PBR level (3.5 animals per year). The mean annual M/SI of MM stock of humpback whales is 0.902 animals per year or 2 percent of the stock's PBR level (43 animals per year).

The sablefish pot fishery is composed of three different sectors. There is the Individual Fishing Quota (IFQ) sector, the Limited Entry sector (including both the primary sablefish fishery and the trip limit fishery), and the Open Access sector. Each sector has varying levels of at-sea observer coverage: the IFQ sector is covered at 100 percent (through human observers or electronic monitoring), Limited Entry sector is covered at approximately 30-40 percent, and Open Access sector is covered at approximately 5 percent coverage. The largest portion of the Limited Entry sector is the primary sablefish season which occurs from April-December while the remainder of the Limited Entry sector (trip limit fishery), the IFQ and Open Access sectors operate year round. The majority of catch across all sectors occurs May-October, peaking in the late summer and early fall months. There have been four documented serious injuries of humpback whales incidental to the sablefish pot fishery since 2014; one additional animal was successfully disentangled.

On July 26, 2023, the United States District Court for the Northern District of California adopted a Stipulated Settlement Agreement (Agreement) between NMFS and the Center for Biological Diversity to resolve claims in the matter of Center for Biological Diversity v. Raimondo (3:22-cv-00117-JD). As part of this Agreement, NMFS committed to issue a notice establishing a Team by October 31, 2025, and to convene the first Team meeting by November 30, 2025.

Commercial Fisheries Not Included Within the TRT Scope

NMFS considered the following six commercial fisheries and is not including them in the scope of the TRT at this time. The sablefish pot fishery is currently observed, which allows for estimating M/SI for that fishery with existing methods. There is no currently available methodology to estimate unobserved mortality in the state-managed fisheries described below; those fisheries are not systematically observed and the fisheries are generally prosecuted differently (e.g., single pots versus multi-trap strings) than the sablefish pot fishery. NMFS is currently working to estimate bycatch of humpback whales to more accurately assess the total number and impact of M/SI in these fisheries. Once that information is available, NMFS will consider how to address these fisheries under MMPA sec. 118. Information discussed below for the CAM and MM stocks of humpback whales are from the final 2023 SARs (Carretta et al., 2024) unless otherwise noted.

(1) California (CA) Dungeness crab pot fishery. The Category II CA Dungeness crab pot fishery operates along the central and northern coastal waters of CA in depths typically ranging from 10-40 fathoms, although effort occurs out to 100 fathoms. The mean annual M/SI of CAM humpback whales in this fishery is 2.01 animals per year, 57 percent of the stock's PBR level (3.5). The mean annual M/SI of MM humpback whales in this fishery is 2.74 animals per year, 6 percent of the stock's PBR level (43). Entanglements of blue whales have also been documented with the CA Dungeness crab pot fishery with a mean annual M/SI of 0.15 animals per year, 3.6 percent of the stock's PBR level (4.1).

(2) Oregon Dungeness crab pot fishery. The Category II Oregon Dungeness crab pot fishery operates along the coastal waters of Oregon in depths typically ranging from 10-50 fathoms, and within the Columbia River. The mean annual M/SI of CAM humpback whales in this fishery is 0.148 animals per year, 4 percent of the stock's PBR level (3.5). The mean annual M/SI of MM humpback whales in this fishery is 0.202 animals per year, <1 percent of the stock's PBR level (43).

(3) Washington coastal Dungeness crab pot fishery. The Category II Washington coastal Dungeness crab pot fishery operates in coastal waters off the coast of Washington typically in depths less than 50 fathom ranging from the Columbia River to Cape Flattery near Neah Bay, including the estuaries of the Columbia River, Grays Harbor, and Willapa Bay. The mean annual M/SI of the CAM stock of humpback whales is 0.065 animals per year, 1.8 percent the stock's PBR level (3.5).

(4) CA spot prawn pot fishery. The Category II CA spot prawn pot fishery operates from Central California southward to the Mexican border. The mean annual M/SI of the CAM stock humpback whales in this fishery is 0.275 animals per year, 7.86 percent of the stock's PBR level (3.5). The mean annual M/SI of the MM stock of humpback whales in this fishery is 0.375 animals per year, <1 percent of the stock's PBR level (43).

(5) CA spiny lobster pot fishery. The Category II CA spiny lobster pot fishery occurs in the Southern California Bight, ranging from Point Conception to the U.S.-Mexico border, including areas surrounding the offshore Channel Islands. There was one serious injury of the CAM stock of humpback whales documented in 2021 (Caretta et al. 2024).

(6) CA coonstripe shrimp pot fishery. The Category II CA coonstripe shrimp pot fishery primarily occurs along a relatively narrow depth range, between 20 and 30 fathoms (120-180 ft or 36.6-54.9 m) in northern California and southern Oregon. There have been two documented serious injuries of CAM humpback whales incidental to the CA coonstripe shrimp pot fishery; and one additional animal was successfully disentangled.

List of Invited Participants

MMPA section 118(f)(6)(C) requires that members of TRTs have expertise regarding the conservation or biology of the marine mammal species that the TRP will address, or the fishing practices that result in the incidental M/SI of such species. The MMPA further specifies that TRTs shall, to the maximum extent practicable, consist of an equitable balance among representatives of resource user and non-user interests. Additional considerations for selecting prospective team members are described in the scoping notice (88 FR 67254, September 29, 2023).

NMFS has asked the following individuals to serve as members of the TRT, which is tasked with developing consensus recommendations to reduce M/SI of CAM and MM humpback whale stocks incidental to the WA/OR/CA sablefish pot fishery: Tim Obert—fisherman, Harrison Ibach—fisherman, Poggy Lapham—fisherman, Stuart Schuttpelz—fisherman, Ben Clampitt—fisherman, David Lethin—fisherman; Sierra Weaver—Defenders of Wildlife, Kristen Monsell—Center for Biological Diversity, Andrea Treece—Earthjustice, Kate Kauer—The Nature Conservancy, John Calambokidis—Cascadia Research Collective, Leigh Torres—Oregon State University, Waldo Wakefield—Oregon State University, Jonathan Scordino—Makah Tribe, Jennifer Hagen—Quileute Nation, Brian Hoffman—Hoh Indian Tribe, Dave Bingaman—Quinault Indian Nation, Chris Yates—NMFS West Coast Regional Office, Kristy Long—NMFS Office of Protected Resources, Rebecca Lent—Pacific Fisheries Management Council, Caren Braby—Pacific State Marine Fisheries Commission, Laura Ingulsrud—NOAA Office of National Marine Sanctuaries, Andrew Read—U.S. Marine Mammal Commission, Heather Hall—Washington Department of Fish and Wildlife, Jessica Watson—Oregon Department of Fish and Wildlife, and Joanna Grebel—California Department of Fish and Wildlife.

Members of TRTs serve without compensation, but may be reimbursed by NMFS, upon request, for allowable travel costs and expenses incurred in performing their duties as members of the team. NMFS will convene the TRT first meeting virtually on November 20, 2025 from 2:00 to 5:00 p.m. PST (see DATES and ADDRESSES). Additionally, NMFS will work with the TRT once the current government furlough has ended to schedule an in-person meeting as soon as possible.

NMFS fully intends to conduct the TRT process in a way that provides for national consistency yet accommodates the unique regional characteristics of the fishery and marine mammal stocks involved. Take Reduction Teams are not subject to the Federal Advisory Committee Act (5 App. U.S.C.). Meetings are open to the public, and will include time for public comments.

References

Bettridge, S., Baker, C.S., Barlow, J., Clapham, P.J., Ford, M., Gouveia, D., Mattila, D.K., Pace III, R.M., Rosel, P.E., Silber, G.K. and Wade, P.R., 2015. Status review of the humpback whale (Megaptera novaeangliae) under the Endangered Species Act. NOAA Technical Memorandum, NOAA-TM-NMFS-SWFSC-540. 240 p.

Carretta, James V., Erin M. Oleson, Karin A. Forney, Amanda L. Bradford, Kym Yano, David W. Weller, Aimée R. Lang, Jason Baker, Anthony J. Orr, Brad Hanson, Jeffrey E. Moore, Megan Wallen, and Robert L. Brownell Jr.. 2024. U.S. Pacific marine mammal stock assessments: 2023. U.S. Department of Commerce, NOAA Technical Memorandum NMFS-SWFSC-704. https://doi.org/10.25923/aqdn-f357.

Carretta, James V., Justin Greenman, Kristin Wilkinson, Lauren Saez, Dan Lawson, and Justin Viezbicke. 2024a. Sources of human-related injury and mortality for U.S. Pacific West Coast marine mammal stock assessments, 2018-2022. U.S. Department of Commerce, NOAA technical memorandum NMFS-SWFSC-705. https://doi.org/10.25923/tj6f-y570.

Calambokidis, J., and Barlow, J. 2020. Updated abundance estimates for blue and humpback whales along the U.S. West Coast using data through 2018. U.S. Department of Commerce, NOAA Technical Memorandum NMFS-SWFSC-634.

Crance, J.L., C.L. Berchok, J. Bonnel, J. and A.M. Thode. 2015. Northeasternmost record of a North Pacific fin whale (Balaenoptera physalus) in the Alaskan Chukchi Sea. Polar Biol. 38: 1767 doi:10.1007/s00300-015- 1719-7.

Curtis, K. Alexandra, John Calambokidis, Katherina Audley, Elizabeth A. Becker, Lars Bejder, Nancy Black, James V. Carretta, Paula Cabanilles, Melvin G. Castaneda, Ted Cheeseman, Jens J. Currie, Enrique de Luna, Joëlle De Weerdt, Nicole Doe, Thomas Doniol-Valcroze, Kiirsten Flynn, Karin A. Forney, Astrid Frisch-Jordán, Shauna Fry, Christine Gabriele, Brian Gisborne, Jessica L. Huggins, Edward Lyman, Pamela Martínez-Loustalot, Christie J. McMillan, Adam A. Pack, Ester Quintana-Rizzo, Nicola Ransome, Tasli J. H. Shaw, Andy Szabo, Leigh Torres, Jorge Urbán R., Martin van Aswegen, Janie Wray, Jeffrey Moore. 2025. Harnessing the power of photo-ID data for apportionment to migratory whale herds: U.S. West Coast humpback whale stock proportions by latitude for the period 2019-2024. U.S. Department of Commerce, NOAA Technical Memorandum NMFS-SWFSC-723. https://doi.org/10.25923/ah7d-sj35.

Edwards, E.F., Hall, C., Moore, T.J., Sheredy, C. and Redfern, J.V., 2015. Global distribution of fin whales Balaenoptera physalus in the post-whaling era (1980-2012). Mammal Review, 45(4), pp.197-214.

Martien, K.K., Taylor, B.L., Archer, F.I., Audley, K., Calambokidis, J., Cheeseman, T. De Weerdt, J., Frisch Jordán, A., Martínez-Loustalot, P., Ortega-Ortiz, C.D., Patterson, E.M., Ransome, N., Ruvelas, P., Urbán Ramírez, J., and Villegas-Zurita, F. 2021. Evaluation of Mexico Distinct Population Segment of Humpback Whales as units under the Marine Mammal Protection Act. U.S. Department of Commerce, NOAA Technical Memorandum NMFS-SWFSC-658. https://doi.org/10.25923/nvw1-mz45.

Mizroch, S.A., D. Rice, D. Zwiefelhofer, J. Waite, and W. Perryman. 2009. Distribution and movements of fin whales in the North Pacific Ocean. Mammal Rev. 39(3):193-227.

Stafford, K.M., S.L. Nieukirk, and C.G. Fox. 1999. An acoustic link between blue whales in the eastern tropical Pacific and the Northeast Pacific. Mar. Mamm. Sci. 15(4):1258-1268.

Stafford, K.M., S.L. Nieukirk, and C. G. Fox. 2001. Geographic and seasonal variation of blue whale calls in the North Pacific. Journal Cetacean Research and Management. 3:65-76.

Taylor, B.L., Martien, K.K., Archer, F.I., Audley, K., Calambokidis, J., Cheeseman, T., De Weerdt J., Frisch Jordán, A., Martínez-Loustalot, P., Ortega-Ortiz, C.D., Patterson, E.M., Ransome, N., Ruvelas, P., and Urbán Ramírez, J. 2021. Evaluation of humpback whales wintering in Central America and southern Mexico as a demographically independent population. U.S. Department of Commerce, NOAA Technical Memorandum NMFS-SWFSC-655. https://doi.org/10.25923/sgek-1937.

Wade, P.R., E.M. Oleson, and N.C. Young. 2021. Evaluation of Hawai'i distinct population segment of humpback whales as units under the Marine Mammal Protection Act. U.S. Dep. Commer., NOAA Tech. Memo. NMFSAFSC-430, 31 p.

Dated: October 31, 2025.
Samuel D. Rauch, III,
Deputy Assistant Administrator for Regulatory Programs, National Marine Fisheries Service.

[FR Doc. 2025-19776 Filed 10-31-25; 4:15 pm]

BILLING CODE 3510-22-P